Title 3—

The President

Proclamation 7469 of September 21, 2001

National POW/MIA Recognition Day, 2001

By the President of the United States of America

A Proclamation

The noble ideals that became our Nation's constitutional foundation were formed over two centuries ago in the hearts of courageous patriots who risked their lives in the name of liberty and justice. Throughout our history, American patriots have risen to answer the call when the enemies of freedom have jeopardized our liberties. Our military history is replete with heroes who put love of country above their own well-being. In answering the call to defend our ideals, generations of brave Americans have left home and family to protect our great Nation, some never to return.

National POW/MIA Recognition Day is notably significant for many American families. It reminds us of the men and women who withstood great hardship while imprisoned by our Nation's enemies; and it reminds us of those still missing, loved ones lost at war but whose fate is not yet fully known. We will not forget these patriots who were willing to give their all to preserve and protect our freedoms.

Nearly 50,000 former POWs live among us, including those held captive during World War II, the Korean War, the Vietnam War, throughout the Cold War era, and during Operation Desert Storm. We owe an incalculable debt of gratitude to these quiet heroes who displayed great honor and indomitable wills and who sacrificed so much for our Nation.

To the families of those who are still missing, we renew our unwavering commitment and determination to obtain the fullest possible accounting for them, including their recovery or repatriation and the identification of the remains of those who have died.

On September 21, 2001, the flag of the National League of Families of American Prisoners and Missing in Southeast Asia will be flown over the White House, the Capitol, the Departments of State, Defense, and Veterans Affairs, the Selective Service System Headquarters, the National Vietnam Veterans Memorial, the Korean War Veterans Memorial, U.S. Military installations, national cemeteries, and other locations across our country. This observance will serve as a powerful reminder to all Americans that we will always keep faith with those who served our Nation with honor, integrity, and great sacrifice, remembering those still missing and honoring those who were imprisoned during war.

NOW, THEREFORE, I, GEORGE W. BUSH, President of the United States, by virtue of the authority vested in me by the Constitution and the laws of the United States, do hereby proclaim September 21, 2001, as National POW/MIA Recognition Day. I call upon all Americans to join me in honoring former American prisoners of war who suffered the hardships of enemy captivity and in renewing our commitment to those still missing in action. I call upon Federal, State, and local government officials and private organizations to observe this day with appropriate ceremonies and activities.

IN WITNESS WHEREOF, I have hereunto set my hand this twenty-first day of September, in the year of our Lord two thousand one, and of the Independence of the United States of America the two hundred and twenty-sixth.

B

[FR Doc. 01-24106

Filed 9-24-01; 8:45 am]

Billing code 3195-01-P